DEPARTMENT OF TRANSPORTATION

Federal Aviation Administration

[Summary Notice No. 2017-71]

Petition for Exemption; Summary of Petition Received; The Boeing Company

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before November 6, 2017.

ADDRESSES: Send comments identified by docket number FAA-2013-0221 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE., Washington, DC 20590-0001, between 9 a.m. and 5 p.m., Monday through Friday, except Federal holidays.

FOR FURTHER INFORMATION CONTACT: Christopher Bailey at (202) 267-4158, Office of Rulemaking, Federal Aviation Administration, 800 Independence Avenue SW., Washington, DC 20591.

This notice is published pursuant to 14 CFR 11.85.
Lirio Liu,
Director, Office of Rulemaking.

Petition for Exemption

Docket No.: FAA-2013-0221.

Petitioner: The Boeing Company.

Section(s) of 14 CFR Affected: 61.75(d)(2) and 61.117.

Description of Relief Sought: By letter dated August 3, 2017, The Boeing Company petitioned the Federal Aviation Administration for an extension of and amendment to Exemption No. 10871, as amended. That exemption allows certain foreign pilots exercising private pilot privileges to fly as second-in-command (SIC) on Boeing aircraft while conducting evaluation and demonstration flights within the United States for potential buyers of those aircraft, or on behalf of their respective civil aviation authority (CAA). In its petition, Boeing asked for an amendment that would incorporate additional language to allow Boeing to conduct flights for demonstration and evaluation, on behalf of new or potential customers, or at the request of a foreign civil aviation authority, using new developmental test aircraft models.

[FR Doc. 2017-22376 Filed 10-13-17; 8:45 am]

BILLING CODE 4910-13-P